DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than February 4, 2002.

Also, interested persons are invited to submit written comments regarding the subject matter of the petitions to the Director of DTAA at the address shown below not later than February 4, 2002.

Petitions filed with the Governors are available for inspection at the Office of the Director, DTAA, ETA, DOL, Room C-5311, 200 Constitution Avenue, NW., Washington, DC 20210.

Signed at Washington, DC this 16th day of January 2002.
Edward A. Tomchick,
Director, Division of Trade Adjustment Assistance.

Appendix
Subject firm | Location | Date received at Governor's office | Petition number | Articles produced
Chemical Lime (Co) | Douglas, AZ | 12/12/2001 | NAFTA-5,685 | Lime (calcium oxide).
Road Machinery—Phelps Dodge Chino (Wkrs) | Bayard, NM | 12/31/2001 | NAFTA-5,686 | Machine parts.
Valhoma Corp.—Nexus Management (Wkrs) | Tulsa, OK | 12/28/2001 | NAFTA-5,687 | Horse holters.
Greenwood Mills—Liberty Mfg. (Co.) | Liberty, SC | 12/28/2001 | NAFTA-5,688 | Finished denim fabric.
Knitcraft (Co.) | Belmont, NC | 01/02/2002 | NAFTA-5,689 | Unfinished knit goods.
Titan Plastic Group—Plastic Engineered (Wkrs) | El Paso, TX | 01/02/2002 | NAFTA-5,690 | Plastic injection molded parts.
International Paper (PACE) | Menasha, WI | 11/13/2001 | NAFTA-5,691 | Silicon coated substrate.
Emerson Electric—Alco Controls (Co.) | Hazlehurst, GA | 12/28/2001 | NAFTA-5,692 | Refrigeration filter driers.
Braeco (Co.) | Marshall, NC | 12/31/2001 | NAFTA-5,693 | Tee shirts and shorts.
King Press (Co.) | Joplin, MO | 12/28/2001 | NAFTA-5,694 | Printing presses.
B.B. Walker Co. and Bender Shoe Co. (Co.) | Asheboro, NC | 12/27/2001 | NAFTA-5,695 | Western boots, work shoes.
Pittsburgh Gear (USWA) | Pittsburgh, PA | 12/28/2001 | NAFTA-5,696 | Gears and transmissions.
R.B. and W Corp. (USWA) | Coraoplis, PA | 12/28/2001 | NAFTA-5,697 | Fasterns for automotive.
Leech Tool and Die Works (Wkrs) | Meadville, PA | 12/28/2001 | NAFTA-5,698 | Tool and dies (molds).
Applied Concepts (Wkrs) | Warrendale, PA | 12/28/2001 | NAFTA-5,699 | Hand tools.
Hein Werner—Snap On (Co.) | Baraboo, WI | 01/03/2002 | NAFTA-5,700 | Collision repair equipment.
Treno Technologies (Wkrs) | Round Rock, TX | 01/04/2002 | NAFTA-5,701 | Plastic and sheetmetal computer cases.
Meridian Automotive Systems (Wkrs) | Portland, OR | 01/02/2002 | NAFTA-5,702 | Rigs.
ITT Industries (Wkrs) | Newton, MA | 01/07/2002 | NAFTA-5,703 | Switches.
Odetics, Inc. (Co.) | Anaheim, CA | 12/07/2001 | NAFTA-5,704 | Viedo surveilance recorder.
Denso Sales California (Co.) | Long Beach, CA | 11/10/2001 | NAFTA-5,705 | Automotive tube, hoses, air conditioning.
Clearwater Forest Industries (Co.) | Kooskia, ID | 01/03/2002 | NAFTA-5,706 | Dimensional lumber.
Hunter Sadler—Lanier Clothes (Co.) | Tupelo, MS | 01/04/2002 | NAFTA-5,707 | Clothing.
Seco Warwick Corporation (Co.) | Meadville, PA | 01/11/2002 | NAFTA-5,708 | Industrial heat treating equipment.
Precision Twist Drill (Wkr) | Rhinelander, WI | 12/20/2001 | NAFTA-5,709 | Twist drill bits.
Rockwell Collins (Co.) | Pomona, CA | 01/07/2002 | NAFTA-5,710 | In flight entertainment system.
FCI USA (Wkrs) | Emigsville, PA | 01/11/2002 | NAFTA-5,711 | Electrical connectors.
Crown, Corky and Seal Pakaging (Wkrs) | So. Connellsville, PA | 01/11/2002 | NAFTA-5,712 | Plastical lined closures.
Borg Warner Automotive (Wkrs) | Coldwater, MI | 01/08/2002 | NAFTA-5,713 | Automotive transmission components.
Artex International (Wkrs) | Highland, IL | 01/08/2002 | NAFTA-5,714 | Table linens (napkins & tablecloths).
Bilco Manufacturing (Co.) | Macon, GA | 01/09/2002 | NAFTA-5,715 | Wooden shell rolls.
VF Jeanswear (Wkrs) | Prague, OK | 01/08/2002 | NAFTA-5,716 | Jeans and causalwear.
National Oilwell (Wkrs) | McAlester, OK | 01/08/2002 | NAFTA-5,717 | Pumps.
Iris Graphics—A Creo Co. (Co.) | Billerila, MA | 01/07/2002 | NAFTA-5,718 | Proofing products.
Monona Wire (Co.) | Livington, WI | 01/09/2001 | NAFTA-5,719 | Wiring harnesses for medical.
Hershey Chocolate and Confectionery (Wkrs) | Wheatridge, CO | 12/13/2001 | NAFTA-5,720 | Hard candy.
Steelcase (Wkrs) | Fletcher, NC | 01/10/2002 | NAFTA-5,721 | Wood.
Siemens Energy and Automation (Co.) | Osceola, IA | 01/04/2002 | NAFTA-5,722 | Elevator starters.
Screen Creations (Wkrs) | O'Fallon, MO | 01/10/2002 | NAFTA-5,723 | T-shirts.
Credence Systems (Wkrs) | Hillsboro, OR | 11/09/2001 | NAFTA-5,724 | Automative test equipment.
Inoac Packaging Group (Co.) | Leitchfield, KY | 01/10/2002 | NAFTA-5,725 | Plastic bottle decoration.
Agere Systems (Co.) | Breingsville, PA | 01/14/2002 | NAFTA-5,726 | Optic devices.
Burlington Industries (Wkrs) | Cordova, NC | 01/08/2002 | NAFTA-5,727 | Synthetic fabrics.
Quality Metal Products (Co.) | Bessener City, NC | 01/14/2002 | NAFTA-5,728 | Fabricated truck parts.
M.S. Chambers and Son (Co.) | Baltic, CT |  | NAFTA-5,729 | Gravure print cylinders.
SDS Lumber (Co.) | Bingan, WA | 01/14/2002 | NAFTA-5,730 | Plywood.
Hammond Power Solutions (Co.) | Baraboo, WI | 01/14/2002 | NAFTA-5,731 | Transformers.
New Era Textile Parts (Co.) | Gastonia, NC | 01/11/2002 | NAFTA-5,732 | Card screens and card plates.
Charmilles Technologies (Wkrs) | Owosso, MI | 01/11/2002 | NAFTA-5,733 | Electrical discharge machinery.
Emerson (Co.) | Oxford, MS | 01/08/2002 | NAFTA-5,734 | Fractional horse power motor.

[FR Doc. 02-1781 Filed 1-23-02; 8:45 am]

BILLING CODE 4510-30-M